DEPARTMENT OF HEALTH AND HUMAN SERVICES

Office of the Secretary, Office of the Assistant Secretary for Administration; Statement of Organization, Functions, and Delegations of Authority

Part A, Office of the Secretary, Statement of Organization, Functions, and Delegations of Authority for the Department of Health and Human Services (HHS) is being amended at Chapter ABE, Office of Security and Strategic Information, which was last amended at 72 FR 19000-01, dated April 16, 2007, and at Chapter AJ, Office of the Assistant Secretary for Administration (ASA), which was last amended at 74 FR 57679-57682, dated November 9, 2009, and most recently at 75 FR 369-370, dated January 5, 2010, as follows:

A. Under Part A, delete Chapter ABE, Office of Security and Strategic Information, in its entirety.

B. Under Part A, Chapter AJ, “Section AJ.00 Mission,” delete in its entirety and replace with the following:

Section AJ.00 Mission. The Office of Assistant Secretary for Administration (ASA) performs for the Secretary the administrative functions of the Department. Manages policies and programs for human resources, equal employment opportunity, information resources management, security, counterintelligence, strategic information, logistics, and travel, as well as the general administrative activities of the Department and other administrative duties as assigned from time to time. Provides leadership and oversight direction to the activities of the Program Support Center.

C. Under Part A, Chapter AJ, “Section AJ.10 Organization,” delete in its entirety and replace with the following:

Section AJ.10 Organization. The Office of the Assistant Secretary for Administration (ASA) is under the direction of the Assistant Secretary for Administration, who reports to the Secretary, and consists of the following components:

• Immediate Office (AJ)

• Office of Human Resources (AJA)

• Office for Facilities Management and Policy (AJE)

• Office of the Chief Information Officer (AJG)

• Office of Business Management and Transformation (AJJ)

• Office of Security and Strategic Information (AJS)

• Program Support Center (P)

D. Under Part A, Chapter AJ, “Section AJ.20 Functions,” delete the first paragraph, “Office of Human Resources (AJA),” in its entirety and replace with the following:

Office of Human Resources (AJA). The Office of Human Resources (OHR) provides leadership in the planning and development of personnel policies and human resource programs that support and enhance the Department's mission. OHR also provides technical assistance to the Operating Divisions (OPDIVs) to most effectively and efficiently accomplish the OPDIV's mission through improved planning and recruitment of human resources and serves as the Departmental liaison to central management agencies on related matters. OHR also provides leadership in creating and sustaining a diverse workforce and an environment free of discrimination at HHS through efforts that include policy development, oversight, resource management, commemorative events, and standardized education and training programs.

E. Under Part A, Chapter AJ, “Section AJ.20 Functions,” delete the fourth paragraph, “Office of Diversity Management and Equal Employment Opportunity (AJI),” in its entirety.

F. Under Part A, Chapter AJ, “Section AJ.20 Functions,” insert the following new paragraph at the end of the section:

Office of Security and Strategic Information (AJS). The Office of Security and Strategic Information is headed by the Deputy Assistant Secretary for Security who serves as the Secretary's Senior Intelligence Official and reports directly to the Deputy Secretary on intelligence and counterintelligence issues and to the Assistant Secretary for Administration on all other issues. The Office of Security and Strategic Information provides Department-wide leadership, direction, policy guidance, execution support, and oversight for the following areas: Personnel security and suitability; physical security; critical infrastructure protection; secure systems access and classified information security management, including original classification authority and declassification authority; strategic information; and counterintelligence. The Office also provides leadership and execution of security functions for the Office of the Secretary.

F. Delegation of Authority. Pending further redelegation, directives or orders made by the Secretary, Deputy Secretary, or ASA, all delegations and redelegations of authority made to officials and employees of affected organizational components will continue in them or their successors pending further redelegations, provided they are consistent with this reorganization.

Dated: January 3, 2012.
Kathleen Sebelius,
Secretary.

[FR Doc. 2012-1011 Filed 1-18-12; 8:45 am]

BILLING CODE 4151-17-P